OFFICE OF THE UNITED STATES TRADE REPRESENTATIVE

[Docket Number USTR-2018-0022]

Annual Review of Country Eligibility for Benefits Under the African Growth and Opportunity Act

AGENCY: Office of the United States Trade Representative.

ACTION: Notice of initiation of review, public hearing, and request for comments.

SUMMARY: This notice announces the initiation of the annual review of the eligibility of the sub-Saharan African countries to receive the benefits of the African Growth and Opportunity Act (AGOA). The AGOA Implementation Subcommittee of the Trade Policy Staff Committee (Subcommittee) is developing recommendations for the President on AGOA country eligibility for calendar year 2019. The Subcommittee is requesting written public comments for this review and will conduct a public hearing on this matter. The Subcommittee will consider the written comments, written testimony, and oral testimony in developing recommendations for the President. Comments received related to the child labor criteria also may be considered by the Secretary of Labor in the preparation of the U.S. Department of Labor's report on child labor as required under the Trade Act of 1974. This notice identifies the eligibility criteria that must be considered under AGOA, and lists those sub-Saharan African countries that are currently eligible for the benefits of AGOA and those that were ineligible for such benefits in 2018.

DATES:

August 1, 2018: Deadline for filing requests to appear at the August 16, 2018 public hearing, and for filing pre-hearing briefs, statements, or comments on sub-Saharan African countries' AGOA eligibility.

August 16, 2018: The Subcommittee will convene a public hearing on AGOA country eligibility.

August 23, 2018: Deadline for filing post-hearing briefs, statements, or comments on this matter.

ADDRESSES: The Office of the U.S. Trade Representative (USTR) strongly prefers electronic submissions made through the Federal eRulemaking portal: http://www.regulations.gov. Follow the submission instructions in sections II and III below. The docket number is USTR-2018-0022. For alternatives to on-line submissions, please contact Yvonne Jamison at (202) 395-3475.

FOR FURTHER INFORMATION CONTACT: For procedural questions, please contact Yvonne Jamison at (202) 395-3475. Direct all other questions to Alan Treat, Director for African Affairs, at (202) 395-9514.

SUPPLEMENTARY INFORMATION:

I. Background

AGOA (Title I of the Trade and Development Act of 2000, Public Law 106-200) (19 U.S.C. 2466a et seq.), as amended, authorizes the President to designate sub-Saharan African countries as beneficiaries eligible for duty-free treatment for certain additional products not included for duty-free treatment under the Generalized System of Preferences (GSP) (Title V of the Trade Act of 1974 (19 U.S.C. 2461 et seq.) (1974 Act)), as well as for the preferential treatment for certain textile and apparel articles. The President may designate a country as a beneficiary sub-Saharan African country eligible for AGOA benefits if he determines that the country meets the eligibility criteria set forth in section 104 of AGOA (19 U.S.C. 3703) and section 502 of the 1974 Act (19 U.S.C. 2462).

Section 104 of AGOA includes requirements that the country has established or is making continual progress toward establishing, among other things: a market-based economy; the rule of law, political pluralism, and the right to due process; the elimination of barriers to U.S. trade and investment; economic policies to reduce poverty; a system to combat corruption and bribery; and the protection of internationally recognized worker rights. In addition, the country may not engage in activities that undermine U.S. national security or foreign policy interests or engage in gross violations of internationally recognized human rights. Section 502 of the 1974 Act provides for country eligibility criteria under GSP. For a complete list of the AGOA eligibility criteria and more information on the GSP criteria, see section 104 of the AGOA and section 502 of the 1974 Act.

Section 506A of the 1974 Act requires the President to monitor and review annually the progress of each sub-Saharan African country in meeting the foregoing eligibility criteria in order to determine if each beneficiary sub-Saharan African country should continue to be eligible, and if each sub-Saharan African country that currently is not a beneficiary, should be designated as a beneficiary. If the President determines that a beneficiary sub-Saharan African country is not making continual progress in meeting the eligibility requirements, he must terminate the designation of the country as a beneficiary sub-Saharan African country. The President also may withdraw, suspend, or limit the application of duty-free treatment with respect to specific articles from a country if he determines that it would be more effective in promoting compliance with AGOA eligibility requirements than terminating the designation of the country as a beneficiary sub-Saharan African country.

For 2018, 40 countries were designated as beneficiary sub-Saharan African countries. These countries, as well as the countries currently designated as ineligible, are listed below. The Subcommittee is seeking public comments in connection with the annual review of sub-Saharan African countries' eligibility for AGOA's benefits. The Subcommittee will consider any comments in developing recommendations to the President related to this review. Comments related to the child labor criteria may also be considered by the Secretary of Labor in making the findings required under section 504 of the 1974 Act.

The following sub-Saharan African countries were designated as beneficiary sub-Saharan African countries in 2018:

Angola

Benin

Botswana

Burkina Faso

Cabo Verde

Cameroon

Central African Republic

Chad

Comoros

Republic of Congo

Cote d'Ivoire

Djibouti

Eswatini (formerly Swaziland)

Ethiopia

Gabon

The Gambia

Ghana

Guinea

Guinea-Bissau

Kenya

Lesotho

Liberia

Madagascar

Malawi

Mali

Mauritania

Mauritius

Mozambique

Namibia

Niger

Nigeria

Rwanda

Sao Tome & Principe

Senegal

Sierra Leone

South Africa

Tanzania

Togo

Uganda

Zambia

The following sub-Saharan African countries were not designated as beneficiary sub-Saharan African countries for 2018:

Burundi

Democratic Republic of Congo

Equatorial Guinea (graduated from GSP)

Eritrea

Seychelles (graduated from GSP)

Somalia

South Sudan

Sudan

Zimbabwe

II. Notice of Public Hearing

In addition to written comments from the public on the matters listed above, the Subcommittee will convene a public hearing at 10:00 a.m. on Thursday, August 16, 2018, to receive testimony related to sub-Saharan African countries' eligibility for AGOA's benefits. USTR must receive requests to present oral testimony at the hearing and pre-hearing briefs, statements, or comments must be received by noon August 1, 2018.

The hearing will be held at 1724 F Street NW Washington DC 20508, and will be open to the public and to the press. USTR will make a transcript of the hearing available on www.regulations.gov within approximately two weeks of the hearing.

USTR must receive your written requests to present oral testimony at the hearing and pre-hearing briefs, statements, or comments by noon on Wednesday, August 1, 2018. You must make the intent to testify notification in the “type comment” field under docket number USTR-2018-0022 on the www.regulations.gov website and you should include the name, address, telephone number and email address, if available, of the person presenting the testimony. You should attach a summary of the testimony by using the “upload file” field. The name of the file also should include who will be presenting the testimony. Remarks at the hearing should be limited to no more than five minutes to allow for possible questions from the Subcommittee. You should submit all documents in accordance with the instructions in section III below.

III. Requirements for Submissions

In order to be assured of consideration, persons submitting a notification of intent to testify and/or written comments must do so in English by noon on Wednesday, August 1, 2018. USTR strongly encourages commenters to make on-line submissions, using the www.regulations.gov website. To submit comments via www.regulations.gov, enter docket number USTR-2018-0022 on the home page and click “search.” The site will provide a search-results page listing all documents associated with this docket. Find a reference to this notice and click on the link entitled “comment now!” For further information on using the www.regulations.gov website, please consult the resources provided on the website by clicking on “How to Use Regulations.gov” on the bottom of the home page. We will not accept hand-delivered submissions.

For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments or reply comments. Filers submitting comments containing no business confidential information should name their file using the name of the person or entity submitting the comments. Please do not attach separate cover letters to electronic submissions; rather, include any information that might appear in a cover letter in the comments themselves. Similarly, to the extent possible, please include any exhibits, annexes, or other attachments in the same file as the submission itself, not as separate files.

As noted, USTR strongly urges submitters to file comments through www.regulations.gov. You must make any alternative arrangements with Yvonne Jamison at (202) 395-3475 in advance of transmitting a comment. General information concerning USTR is available at www.ustr.gov.

We will post comments in the docket for public inspection, except business confidential information. You can view comments on the www.regulations.gov website by entering the relevant docket number in the search field on the home page.

IV. Petitions

15 CFR part 2017 permits any interested party to submit a petition to USTR, at any time, with respect to whether a beneficiary sub-Saharan African country is meeting the AGOA eligibility requirements. An interested party may file a petition through www.regulations.gov, under docket number USTR-2018-0022.

Edward Gresser,
Chair of the Trade Policy Staff Committee, Office of the United States Trade Representative.

[FR Doc. 2018-14098 Filed 7-5-18; 8:45 am]

BILLING CODE 3290-F8-P